DEPARTMENT OF TRANSPORTATION

Federal Aviation Administration

[Docket No. 2019-0772]

Agency Information Collection Activities: Requests for Comments; Clearance of New Approval of Information Collection: Pilot Report (PIREP) Form

AGENCY: Federal Aviation Administration (FAA), DOT.

ACTION: Notice and request for comments.

SUMMARY: In accordance with the Paperwork Reduction Act of 1995, FAA invites public comments about our intention to request the Office of Management and Budget (OMB) approval new information collection. The Federal Register Notice with a 60-day comment period soliciting comments on the following collection of information was published on October 1, 2019. The collection involves an aircraft pilot's voluntary submission of weather conditions that were encountered while in flight. The information to be collected is necessary because Pilot Report (PIREP) Solicitation and Dissemination has been identified by the ATO as one of the Top 5 hazards in the National Airspace System (NAS). For certain weather conditions, PIREPs are the only means of confirmation that forecasted conditions are occurring. The FAA 7110-2 PIREP Form is a guide to assist pilots in submitting PIREPs into the NAS.

DATES: Written comments should be submitted by January 3, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Michael Helwig by email at: michael.helwig@faa.gov; phone: 202-267-1666.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Pilot Reports (PIREP).

Form Numbers: FAA Form 7110-2.

Type of Review: New information collection.

Background: The Federal Register Notice with a 60-day comment period soliciting comments on the following collection of information was published on October 1, 2019, (84 FR 52157). The guidance for collecting PIREP information is contained in FAAO 7110. 10, Flight Service, of which System Operations Services (AJR) is the office of primary responsibility.

Respondents: Pilots. As of 9/21/19, pilots have submitted 53,976 PIREPs to be entered in the NAS.

Frequency: On occasion, depending on the weather conditions encountered.

Estimated Average Burden per Response: 2-3 minutes.

Estimated Total Annual Burden: <1 hour per respondent.

Issued in Washington, DC, on December 3, 2019.
Michael C. Artist,
Vice President, System Operations Services, Air Traffic Organization.

[FR Doc. 2019-26320 Filed 12-5-19; 8:45 am]

BILLING CODE 4910-13-P